DEPARTMENT OF ENERGY

Federal Energy Regulatory Commission

[Docket No. IC01-719B-002]

Information Collection Submitted for Review and Request for Comments

February 4, 2002.

AGENCY: Federal Energy Regulatory Commission.

ACTION: Notice of submission for review by the Office of Management and Budget (OMB) and request for comments.

SUMMARY: The Federal Energy Regulatory Commission (Commission) has submitted the energy information collection listed in this notice to the Office of Management and Budget (OMB) for review under the provisions of Section 3507 of the Paperwork Reduction Act of 1995 (Pub. L. 104-13). Any interested person may file comments on the collection of information directly with OMB and should address a copy of those comments to the Commission as explained below. The Commission received comments from a single entity. In their comments, the entity agreed with the Commission's burden estimates but challenged the Commission's efforts to collect information on economic outages and proposed an alternative template to the one developed by the Commission. However, the information proposed to be collected on the alternative template raises issues that are the subject of filings still pending before the Commission, and so accordingly cannot comment on those issues as this time.

DATES: Comments regarding this collection of information are best assured of having their full effect if received on or before March 13, 2002.

ADDRESSES: Address comments to Office of Management and Budget, Office of Information and Regulatory Affairs, Attention: Federal Energy Regulatory Commission, Desk Officer, Room 10202 NEOB, 725 17th Street NW, Washington, DC 20503. The Desk Officer may also be reached by telephone at (202) 395-7318 or by fax at (202) 395-7285. A copy of the comments should also be sent to the Federal Energy Regulatory Commission, Office of the Chief Information Officer, CI-1, Federal Energy Regulatory Commission, Attention: Michael Miller, 888 First Street NE, Washington, DC 20426. Mr. Miller may be reached by telephone at (202) 208-1415 and by e-mail at mike.miller@ferc.fed.us; and

FOR FURTHER INFORMATION CONTACT: Stuart Fischer, Office of the General Counsel, Federal Energy Regulatory Commission, (202) 208-2103.

SUPPLEMENTARY INFORMATION: The energy information collection submitted to OMB for review contains:

1. Collection of Information: FERC-719B “Reporting of Generation Unit Outages in California”.

2. Sponsor: Federal Energy Regulatory Commission.

3. Control Number: 1902-0185. Because the current authorization was scheduled to expire on November 30, 2001,¹ the Commission is requesting renewal of the data collection until the expiration of the mitigation plan implemented by the Commission in its April 26, 2001 order and amended in its June 19, 2001 order. As of now, pursuant to the June 19 Order, the mitigation plan is to remain in effect until September 30, 2002. If the Commission subsequently extends the date of the expiration of the mitigation plan, the Commission proposes to continue the information collection through the new expiration date, recognizing that the maximum clearance OMB can grant under the Paperwork Reduction Act is three years. There is a decrease in the reporting burden due to an adjustment in the number of reports that must be submitted to the Commission. Between May 23, 2001, when the Commission began receiving the first outage reports, and October 23, 2001, the Commission received a total of 1,839 outage reports by a total of 22 generators. (Many generators have multiple units and submitted separate outage reports for each one). Extrapolating this five month total for the expected ten month period of the renewed clearance (assuming that the Commission mitigation plan expires, as is currently proposed, on September 30, 2002), the Commission anticipates that there would be a total of 3,678 reports filed. (We note that the May 11 OMB Request estimated that there would be 4,038 reports filed during the entire six-month period of the current clearance. This was before Commission staff excluded from the reporting requirements co-generation units that did not sell into the ISO market from the reporting requirements.) If the Commission's mitigation plan expires on September 30, 2002, it anticipates that 3,678 reports will be filed. In addition, because Commission staff created a pre-existing template, generators did not need to develop a reporting format. Moreover, all of the generators that previously submitted outage reports already have the fixed items (such as Nameplate Capacity and Fuel Type) filled in for units that have been the subject of prior reports. The Commission estimates that it would take each generator that previously submitted an outage report for a generation unit approximately 20 minutes to fill out a subsequent report (because much of the information remains constant). This is a mandatory information collection requirement.

¹ Due to the continuing interruption of mail and delivery services to the Executive Office of the President, OMB has continued the expiration dates on information collections on a month to month basis. The expiration date for FERC-719B has been extended through February 28, 2002.

4. Necessity of the Collection of Information: Submission of the information is necessary for the Commission to carry out its responsibilities under the Federal Power Act (FPA). The FPA directs the Commission to ensure just and reasonable rates for transmission and wholesale sales of electricity in interstate commerce. See 16 USC 824e(a). To enable the Commission to fulfill this duty, the Federal Power Act also authorizes the Commission to conduct investigations of, and collect information from, public utilities. See 16 USC 825, 825c, 825f, and 825j. Commission staff has been investigating the California electricity market, which in late 2000 and early 2001 was in a state of emergency with prices at extremely high levels and, on some days, rotating blackouts.

One of the likely reasons for the high prices was forced and scheduled outages by electric generators in California. On most days between January and May 2001, the California Independent System Operator (ISO) had reported outages of well over 10,000 megawatts for generating plants in California. In addition to causing higher prices, the outages limited the availability of electric power in California, leading the ISO to order rotating blackouts in the state to preserve the transmission system. On April 26, 2001, the Commission issued an Order Establishing Prospective Mitigation and Monitoring Plan for the California Wholesale Electric Markets and Establishing An Investigation of Public Utility Rates in Wholesale Energy Markets, San Diego Gas and Electric Company v. Sellers of Energy and Ancillary Service et. al, 95 FERC ¶ 61,115 (2001), Order on Rehearing, 95 FERC ¶ 61,418 (2001). In the April 26 Order, the Commission stated that:

the Commission staff will continue its independent monitoring of generating unit outages as well as the real-time and forward price monitoring of both electric and natural gas commodity and transmission prices. Knowledge of these conditions on an ongoing and up-to-date basis is essential, if the Commission is to provide an independent and informed assessment of the key elements of the mitigation plan, such as the level of unplanned outages and conditions that could cause price mitigation to be invoked.

95 FERC at 61,360.

To implement its monitoring efforts, on May 11, 2001, the Commission sought a clearance from OMB to collect information electronically from generators on plant outages within 24 hours of their occurrence and conclusion, whether forced, scheduled or otherwise. 66 FR 24353 (May 14, 2001). OMB granted the Commission's request on May 17, 2001, with an expiration date of November 30, 2001. Currently, the Commission requires this information from all non-municipal generators that sell into the ISO market, are not investor owned utilities, and own, operate or control either one generation unit with a capacity of 30 MW or more or generation units aggregating 50 MW or more in capacity. Municipal generators that meet the generation capacity parameters are requested to supply the information on a voluntary basis. For the purposes of the data collection, Commission staff considers an outage partial if it reduces the available output of a generation unit below its nameplate rated capacity or below the reliable capacity of the unit as determined by contract with the California ISO. The Commission has treated the information provided by the generators as non-public pursuant to the provisions of 18 C.F.R. 1b.9 (2001).

The Commission believes that federal oversight of California generator outages in general, and the collection of outage data in particular, played an important role in the maintenance of an adequate system supply and low electricity prices in California this past summer. Since the data collection began, Commission staff has reviewed the outage incident reports submitted and has contacted generators, when warranted, for further information. Staff has also utilized the data to investigate or mediate disputes between the ISO and generators. For example, Commission staff has resolved disputes between generators and the ISO involving the current generating capacity of 30 units and is currently attempting to resolve additional similar disputes. The Commission believes that these efforts have played a significant role in helping to preserve system reliability on the ISO grid.

While the California electric market had adequate generation supply and stable prices this past summer, the Commission is concerned that outages could cause supply shortages and higher prices during the next ten months. From November 2000 through May 2001, California endured tight supplies, high outage rates (often exceeding 10,000 MW per day), extremely high prices and, on seven occasions, rolling blackouts. Between January 16, 2001 and February 16, 2001, the ISO declared a record 32 straight days of Stage 3 emergencies, the highest state of emergency. During the winter and spring, many generators will go off-line for weeks or months to perform scheduled maintenance or to install equipment to comply with upcoming more stringent environmental standards. Adding to the potential supply problem in the near term is that California traditionally has obtained less imported power during the winter months as its sources provide power to their own loads and export power to the Pacific Northwest.

Generator outages affect the supply of electricity and prices in the market each day in which they occur. By continuing to request that generators provide information on outages within 24 hours of when they begin and end, the Commission's staff will be able to analyze outages quickly and, if necessary, investigate outages in real time when the effect on prices is occurring. This analysis will include determining whether generators that have taken plants out of service with the permission of the California ISO for scheduled maintenance return those plants to service promptly and do not improperly extend those outages to influence market prices.

The Commission is seeking to retain the existing reporting format, but is requesting one change in the scope of the reporting requirements. Specifically, the Commission seeks to require generators to file reports of outages that occur for economic reasons. Last summer, the ISO began to grant permission for “economic” outages. An “economic” outage is an outage in which the ISO allows a generator to take an uneconomic unit out of service because it will not be needed for dispatch. In recent months, these “economic” outages have become a significant issue. The ISO alleges that some units are being taken out of service without ISO permission and that others are not being brought back on line when the ISO withdraws permission. On the other hand, the generators allege that the ISO is granting permission for “economic” outages on an inconsistent basis and is improperly withdrawing that permission. To monitor generation supply effectively in California and ensure just and reasonable rates, it is now important to collect data on outages for economic reasons as well as outages for mechanical reasons.

6. Estimated Burden: As stated above, for the first five months of the current approved data collection, the Commission received 1,839 electronic outage incident reports, which extrapolates to 3,678 reports for the proposed ten month extension period. Assuming a total of 3,678 outage reports for the ten months for which this information collection is requested, the total number of hours it would take to comply with the reporting requirement would be approximately 1,278 hours (78 hours for initial submissions and 1,200 hours for subsequent submissions, assuming 20 minutes per submission).

7. Estimated Cost Burden to Respondents: Commission staff estimates a cost of $50 per hour for complying with the reporting requirement, based on salaries for professional and clerical staff, as well as direct and indirect overhead costs. Therefore, the total estimated cost of compliance would be $63,900.

Statutory Authority: Sections 206, 301, 304, 307 and 311 of the Federal Power Act (FPA), 16 U.S.C. 824(e)(a); 16 U.S.C. 825; 825(c); 825(f); and 825(j).

Magalie R. Salas,
Secretary.

[FR Doc. 02-3208 Filed 2-8-02; 8:45 am]

BILLING CODE 6717-01-P